DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by February 6, 2003.

Title, Form Number, and OMB Number: U.S. Army ROTC 4-Year College Scholarship Application (For High School Students); CC Form 114-R; OMB Number 0702-0073.

Type of Request: Reinstatement.

Number of Respondents: 11,000.

Responses Per Respondent: 1.

Annual Responses: 11,000.

Average Burden Per Response: 45 minutes.

Annual Burden Hours: 8,250.

Needs and Uses: The applications are available to high school students. After the applications for U.S. Army ROTC College Scholarship Program are completed, they are submitted to Headquarters, Cadet Command for review, screening and selection of scholarship recipients. The application and information provide the basis for the scholarship award.

Affected Public: Individuals or households.

Frequency: Annually.

Respondent's Obligation: Voluntary.

OMB Desk Officer: Ms. Jacqueline Zeiher.

Written comments and recommendations on the proposed information collection should be sent to Ms. Zeiher at the Office of Management and Budget, Desk Officer for DoD Health Affairs, Room 10235, New Executive Office Building, Washington, DC 20503.

DoD Clearance Officer: Mr. Robert Cushing.

Written requests for copies for the information collection proposal should be sent to Mr. Cushing, WHS/DIOR, 1215 Jefferson Davis Highway, Suite 1204, Arlington, VA 22202-4302.

Dated: December 30, 2002.
L.M. Bynum,
Alternate OSD Federal Register Liaison Officer, Department of Defense.

[FR Doc. 03-255 Filed 1-6-03; 8:45 am]

BILLING CODE 5001-08-M